DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2014, there were three applications approved. This notice also includes information on one application, approved in April 2012, inadvertently left off the April 2012 notice. Additionally, seven approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of San Angelo, Texas.

Application Number: 12-09-C-00-SJT.

Application Type: Impose and use a PFC.

PFC Level: $4.50.

Total PFC Revenue Approved In This Decision: $745,385.

Earliest Charge Effective Date: August 1, 2014.

Estimated Charge Expiration Date: August 1, 2018.

Class of Air Carriers Not Required to Collect PFC'S: None.

Brief Description of Projects Approved for Collection and Use: Improve terminal building.

PFC application no. 9.

Wildlife hazard assessment.

Airport layout plan update.

Decision Date: April 12, 2012.

FOR FURTHER INFORMATION CONTACT: Marcelino Sanchez, Texas Airports Development Office, (817) 222-5652.

Public Agency: Dickinson Municipal Airport Authority, Dickinson, North Dakota.

Application Number: 14-01-C-00-DIK.

Application Type: Impose and use a PFC.

PFC Level: $4.50.

Total PFC Revenue Approved In This Decision: $714,384.

Earliest Charge Effective Date: April 1, 2014.

Estimated Charge Expiration Date: June 1, 2020.

Class of Air Carriers Not Required to Collect PFC'S: None.

Brief Description of Projects Approved for Collection and Use: Install guidance signs (electric items and signs).

Extend and mark runway 14/32 (1,200 feet by 75 feet).

Light runway 14/32 (1,200 feet by 75 feet).

Reconstruct and mark taxiway B (630 feet by 40 feet).

Light taxiway B (630 feet by 40 feet).

Construct and mark taxiway C (1,125 feet by 35 feet) and taxiway D (1,550 feet by 35 feet).

Light taxiway C (1,125 feet by 35 feet) and taxiway D (1,550 feet by 35 feet).

Relocate visual approach slope indicator-4 system.

Relocate supplemental wind cone.

Install runway end identifier lights.

Install airport guidance signs.

Electrical vault and electrical upgrades.

Signage upgrades.

Rehabilitate runway 7/25 (4,700 feet by 75 feet), phase I.

Install medium intensity runway lights for runway 7/25 (4,700 feet by 75 feet), phase I.

Install lighted signs for runway 7/25 (4,700 feet by 75 feet), phase I.

Rehabilitate taxiways B and F.

Install medium taxiway lights for taxiways B and F.

Rehabilitate runway 7/25 (4,700 feet by 75 feet), phase II.

Install medium intensity runway lights for runway 7/25 (4,700 feet by 75 feet), phase II.

Install lighted signs for runway 7/25 (4,700 feet by 75 feet), phase II.

Rehabilitate runway 14/32.

Rehabilitate taxiway A.

Rehabilitate apron area.

Install runway 14/32 lighting.

Relocate runway end identifier lights on runway 14.

Rehabilitate taxiway A (2,700 feet by 35 feet).

Install medium intensity taxiway lighting for taxiway A.

Design and construct new terminal building.

Construct taxiway for new terminal building.

Construct concrete apron for new terminal.

Improve terminal access road.

Install security fencing.

Install area lighting for new terminal.

Rehabilitate runway 7/25—crack seal and marking.

Rehabilitate taxiways—crack sealing and marking.

Rehabilitate general aviation apron.

Acquire snow removal equipment (loader with broom and plow blade).

Acquire friction testing equipment.

Update airport master plan study.

PFC application preparation cost.

Decision Date: February 10, 2014.

FOR FURTHER INFORMATION CONTACT: Nancy Nistler, Bismarck Airports District Office, (612) 253-4638.

Public Agency: City of Sioux City, Iowa.

Application Number: 14-06-C-00-SUX.

Application Type: Impose and use a PFC.

PFC Level: $4.50.

Total PFC Revenue Approved In This Decision: $831,205.

Earliest Charge Effective Date: July 1, 2014.

Estimated Charge Expiration Date: July 1, 2021.

Class of Air Carriers Not Required to Collect PFC's: None.

Brief Description of Projects Approved for Collection and Use: Snow removal equipment building.

Rehabilitate apron (design).

Rehabilitate apron (construction).

Acquire snow removal equipment (deicer).

Rehabilitate terminal building.

Rehabilitate terminal (loading bridge).

Install guidance signs.

Acquire snow removal equipment (broom).

Update airport master plan study.

Rehabilitate apron (taxiway).

Security enhancements.

Acquire snow removal equipment (broom).

Decision Date: February 20, 2014.

FOR FURTHER INFORMATION CONTACT: Sheila Bridges, Central Region Airports Division, (816) 329-2638.

Public Agency: City of Valdosta, Georgia.

Application Number: 14-11-C-00-VLD.

Application Type: Impose and use a PFC.

PFC Level: $4.50.

Total PFC Revenue Approved In This Decision: $247,442.

Earliest Charge Effective Date: April 1, 2014.

Estimated Charge Expiration Date: April 1, 2016.

Class of Air Carriers Not Required to Collect PFC'S: Air taxi/commercial operators operating at Valdosta Regional Airport (VLD).

Determination: Approved. Based on information contained in the public agency's application, the FAA has determined that the approved class accounts for less than 1 percent of the total annual enplanements at VLD.

Brief Description of Projects Approved for Collection and Use: Wildlife hazard assessment.

Design airfield electrical vault and backup generator.

Design commercial terminal apron expansion.

Design passenger boarding bridge for commercial terminal.

Weight bearing capacity study.

Construct airfield electrical vault and backup generator.

Prepare PFC application.

Wildlife hazard management plan.

Construct commercial terminal apron expansion.

Brief Description of Disapproved Project: Runway 17 safety area improvements.

Detrmination: Disapproved. This project is not PFC eligible.

Decision Date: February 26, 2014.

FOR FURTHER INFORMATION CONTACT: Parks Preston, Atlanta Airports District Office, (404) 305-7149.

Amendments to PFC Approvals
Amendment No. city, state | Amendment approved date | Original approved net PFC revenue | Amended approved net PFC revenue | Original estimated charge exp. date | Amended estimated charge exp. date
05-01-C-01-CIU Kincheloe, MI | 2/06/14 | $1,087,463 | $1,050,115 | 07/01/23 | 02/01/23
04-02-C-01-LMT Klamath Falls, OR | 2/06/14 | 877,799 | 718,606 | 12/01/11 | 12/01/11
06-10-C-01-CMX Calumet, MI | 2/07/14 | 130,367 | 125,592 | 11/01/07 | 06/01/07
01-06-C-02-ESC Escanaba, MI | 2/21/14 | 114,900 | 78,073 | 03/01/04 | 03/01/04
06-08-C-01-ESC Escanaba, MI | 2/21/14 | 322,158 | 322,158 | 04/01/14 | 04/01/14
07-04-C-01-GRR Grand Rapids, MI | 2/21/14 | 5,525,000 | 7,403,893 | 05/01/19 | 12/01/19
00-02-C-02-JNU Juneau, AK | 2/24/14 | 407,248 | 386,514 | 02/01/01 | 02/01/01

Issued in Washington, DC, on May 23, 2014.
Joe Hebert,
Manager, Financial Analysis and Passenger Facility Charge Branch.

[FR Doc. 2014-12678 Filed 5-30-14; 8:45 am]

BILLING CODE 4910-13-P